DEPARTMENT OF COMMERCE

National Oceanic and Atmospheric Administration

[Docket No. 030523132-3132-01; I.D. 051603B]

Financial Assistance for Fisheries Disasters; Blue Crab Fishery

AGENCY: National Marine Fisheries Service (NMFS), National Oceanic and Atmospheric Administration (NOAA), Commerce.

ACTION: Notice of solicitation for applications.

SUMMARY: This Fisheries Disaster program provides assistance for the blue crab fishing industry which has been adversely affected by reduced harvests and sales of blue crab.

DATES: Your application must be received by close of business 5 p.m. eastern daylight time on June 27, 2003.

ADDRESSES: You can obtain an application package from, NMFS, Southeast Region, State/Federal Liaison Office, 9721 Executive Center Drive N., St. Petersburg, FL 33702; (727-570-5324) or the NMFS, Northeast Region, State, Federal and Constituent Programs Office, One Blackburn Drive, Gloucester, MA 01930; (978-281-9243). You may also obtain forms from: http://caldera.sero.nmfs.gov/grants/grants.htm.

FOR FURTHER INFORMATION CONTACT: Ellie Francisco Roche, Chief, State/Federal Liaison Office, NMFS Southeast Region at 727-570-5324; Ellie.Roche@noaa.gov or Harry Mears, Director, State, Federal and Constituent Programs Office, NMFS Northeast Region at 978-281-9243; Harry.Mears@noaa.gov

SUPPLEMENTARY INFORMATION:

I. Authority

We are soliciting applications for Federal assistance pursuant to Division N, Title V, Section 501 (Fisheries Disasters),of the Consolidated Appropriations Resolution, 2003 Public Law 108-7. Catalog of Federal Domestic Assistance Number: 11.452 Unallied Industry Projects

II. Program Description and Purpose

Assistance, as described below, is being provided to blue crab fisheries affected by reduced harvests and sales of blue crab in proportion to the amount of the catch landed by each State. Funds may be used only for: personal assistance with priority given to food, energy needs, housing assistance, transportation fuel, and other urgent needs; assistance for small businesses including fishermen, fish processors, and related businesses serving the fishing industry; domestic product marketing and seafood promotion; and state seafood testing programs.

III. Funding Availability

Approximately $5.0 million will be available in fiscal year (FY) 2003 for new projects for blue crab fisheries affected by reduced harvests and sales of blue crab in proportion to the amount of the catch landed by each state.

IV. Funding Period and Restrictions

Grants will be awarded for a maximum period of 36 months. Not more than 5 percent of grant funds may be used for administrative expenses, and no funds may be used for lobbying activities or representational expenses. Construction is not an allowable activity under this program, so applications will not be accepted for construction projects.

V. Cost Sharing

Cost-sharing is not required for this fisheries disaster program.

VI. Eligibility Information

State, local and Indian tribal governments and institutions of higher education are eligible to apply.

VII. Application Information

Content, Form and Submission of Applications

Project applications must include a narrative project description to include (1) documentation that the blue crab fisheries have been affected by reduced harvests and sales of blue crab; (2) documentation of the amount of blue crab landed in the state each year from 1999 to 2001; (3) project goals and objectives which provide a clear presentation of the proposed work; (4) a statement of work (project design and management, including who is responsible, expected products, and participants other than the applicant; (5) methods for carrying out the project; and (6) a summary of the existing state of knowledge related to the project, and contribution and relevance of how the proposed activities will fulfill the purposes of the disaster assistance, as described in Section II above. Project applications must identify the principal participants and include copies of any agreements describing the specific tasks to be performed by those participants. A budget, which includes a detailed breakdown by category of expenditures, with appropriate cost estimates and justifications as they relate to specific aspects of the project, must be provided.

Applications must be one-sided and unbound. You must submit one signed original and two signed copies of the completed application (including supporting information). We will accept neither facsimile applications, nor electronically forwarded applications.

The three copies (one original and two copies) should be submitted to either the NMFS Southeast Regional Office, State/Federal Liaison Office or the NMFS Northeast Regional Office, State, Federal and constituent Programs Office (see ADDRESSES). We must receive your application by close of business 5 p.m. eastern daylight time on June 27, 2003. Applications received after that time will not be considered for funding. All incomplete applications will be returned to the applicant.

Applications received after the deadline (see DATES) will not be considered for funding. Postmark prior to the end of the receipt period will not be sufficient. Facsimile applications will not be accepted. Generally, applicants will be notified within 45 days from the date of publication of this notice whether their applications have been recommended for funding. It may take up to an additional 30 days for the Grants Office to process the awards. Applicants should consider this processing time in developing requested start dates for their applications.

VIII. Application Review and Selection Process

When we receive applications we will screen them to ensure the following: that they were received by the deadline date (see DATES); that the included SF 424 was signed and dated by an authorized and eligible representative; that the proposal addresses the program purpose; and that a budget, statement of work, milestones, and clearly identified principal investigators and organizations carrying out work under the proposed project are included.

Merit Review - Applications responsive to this solicitation will be evaluated by three individuals having expertise in fisheries disaster funding assistance in order to determine their merit. Reviewers will assess the applications on the criteria listed below, which are weighted equally. Each reviewer will provide individual evaluations of the proposals. Based on these individual evaluations, NMFS, as applicable, will rank the applications received on behalf of the blue crab fisheries fishing industries of each the state.

The following Evaluation Criteria will be applied by the reviewers: (1) Importance/relevance and applicability of the application - how the application relates to the accomplishments of the program's purpose; (2) Technical and/or scientific merit - whether the application has sufficient technical and scientific merit that will adequately address project goals and objectives; (3) Overall qualifications of the applicant - experience with the fishing industry; (4) Project costs - whether the proposed costs are reasonable and consistent with Section II, Program Description and Purpose, and Section III, Funding Availability; and (5) Outreach and education - whether the scope of the applicant's proposed activities are sufficient to disseminate disaster relief information.

Following the merit review, the applications will be provided to the Regional Administrator, Southeast Region or the Regional Administrator, Northeast Region who are the selecting officials for their respective regions. In determining the projects to be recommended for funding, the Regional Administrators will consider the evaluation and rankings of the review panel members, along with the following selection factors: Availability of funding; balance/distribution of funds by geography/institutions/project types; duplication of effort through other projects funded or considered for funding by NOAA or other federal agencies; program priorities and policy factors; applicants' prior award performance; and partnerships with/participation of targeted groups.

IX. Award Administration Information

1. Award Notices - Successful applicants of proposed projects generally will be notified approximately within 30 days from the date of publication of this notice. Projects must not be initiated until a signed award is received from the NOAA Grants Office. Unsuccessful applications will be returned to the applicant.

2. Administrative Requirements - If you are selected to receive a grant award for a project, you must:

- Manage the day-to-day operations of the project, be responsible for the performance of all activities for which funds are granted, and be responsible for the satisfaction of all administrative and managerial conditions imposed by the award.

- Keep records sufficient to document any costs incurred under the award, and allow access to these records for audit and examination by the Secretary of Commerce, the Comptroller General of the United States, or their authorized representatives; and, submit financial status reports (SF 269) to the NOAA Grants Office in accordance with the award conditions.

3. Reporting - Successful applicants will be required to:

- Submit semiannual project status reports on the use of funds and describing the progress of the project and other acceptable deliverable to NMFS within 30 days after the end of each 6-month period. You will submit these reports to the individual identified as the NMFS Program Officer in the funding agreement.

- Submit a final report within 90 days after completion of each project to the NMFS Program Officer. The final report must describe the project and include an evaluation of the work you performed and the results and benefits in sufficient detail to enable us to assess the success of the completed project. Upon request, we will provide you with formats for the semiannual and final reports.

We are committed to using available technology to achieve the timely and wide distribution of final reports to those who would benefit from this information. Therefore, you are encouraged to submit final reports in electronic format, in accordance with the award terms and conditions. The costs associated with preparing and transmitting your final reports in electronic format to the grant award are allowable expenses.

X. Other Requirements

The Department of Commerce Pre-Award Notification Requirements for Grants and Cooperative Agreements contained in the Federal Register notice of October 1, 2001 (66 FR 49917), as amended by the Federal Register notice published on October 30, 2002 (67 FR 55109), are applicable to this solicitation.

Intergovernmental Review - Applications under this program are subject to the provisions of Executive Order 12372, Intergovernmental Review of Federal Programs. Applicants must contact their State's Single Point of Contact (SPOC) to find out about and comply with the State's process under Executive Order 12372. The names and addresses of the SPOCs are listed in the Office of Management and Budget's home page at http://www.whitehouse.gov/omb/grants/spoc.html.

Classification

This action has been determined to be not significant for the purposes of Executive Order 12866.

Prior notice and an opportunity for public comment are not required by the Administrative Procedure Act for rules concerning public property, loans, grants, benefits, and contracts (5 USC 553(a)(2)). Because notice and opportunity for comment are not required pursuant to 5 USC 553 or any other law, the analytical requirements of the Regulatory Flexibility Act (5 USC 601 et seq.) are inapplicable. Therefore, a regulatory flexibility analysis is not required and has not been prepared. Notwithstanding any other provision of law, no person is required to respond to, nor shall any person be subject to a penalty for failure to comply with, a collection of information subject to the Paperwork Reduction Act, unless that collection displays a currently valid Office of Management and Budget (OMB) control number. This notice contains collection-of-information requirements subject to the Paperwork Reduction Act. The use of Standard Forms 424, and 269 has been approved by OMB under the respective control numbers 0348-0043, and 0348-0039.

Dated: June 6, 2003.
John Oliver,
Deputy Assistant Administrator for Operations, National Marine Fisheries Service.

[FR Doc. 03-14864 Filed 6-11-03; 8:45 am]

BILLING CODE 3510-22-S